DEPARTMENT OF COMMERCE

National Oceanic and Atmospheric Administration

[I.D. 082901E]

Mid-Atlantic Fishery Management Council; Public Meeting

AGENCY: National Marine Fisheries Service (NMFS), National Oceanic and Atmospheric Administration (NOAA), Commerce.

ACTION: Notice of public meeting.

SUMMARY: The Mid-Atlantic Fishery Management Council’s and the New England Fishery Management Council's Joint Dogfish Committee will hold a public meeting.

DATES: The meeting will be held on Friday, September 28, 2001, from 10 a.m. until 5 p.m.

ADDRESSES: This meeting will be held at the Comfort Inn at the Airport, 1940 Post Road, Warwick, RI; telephone: 401-732-0470.

Council address: Mid-Atlantic Fishery Management Council, Room 2115, 300 S. New Street, Dover, DE 19904. New England Fishery Management Council, 50 Water Street, The Tannery-Mill 2, Newburyport, MA 01950.

FOR FURTHER INFORMATION CONTACT: Daniel T. Furlong, Executive Director, Mid-Atlantic Fishery Management Council; telephone: 302-674-2331, ext. 19, or Paul Howard, Executive Director, New England Fishery Management Council; telephone: 978-465-0492.

SUPPLEMENTARY INFORMATION: The purpose of this meeting is to review updated fisheries and stock assessment information and to develop 2002-03 management measures for spiny dogfish. In addition, the Committee will review the Spiny Dogfish Amendment 1 Issues Paper.

Although non-emergency issues not contained in this agenda may come before this group for discussion, those issues may not be the subject of formal action during this meeting. Action will be restricted to those issues specifically identified in this notice and any issues arising after publication of this notice that require emergency action under section 305 (c) of the Magnuson-Stevens Fishery Conservation and Management Act, provided the public has been notified of the Council’s intent to take final action to address the emergency.

Special Accommodations

This meeting is physically accessible to people with disabilities. Requests for sign language interpretation or other auxiliary aids should be directed to Joanna Davis at the Mid-Atlantic Council Office (see ADDRESSES) at least 5 days prior to the meeting date.

Dated: September 4, 2001.
Peter H. Fricke,
Acting Director, Office of Sustainable Fisheries, National Marine Fisheries Service.

[FR Doc. 01-22809 Filed 9-11-01; 8:45 am]

BILLING CODE 3510-22-S